DEPARTMENT OF HOMELAND SECURITY

Coast Guard

33 CFR Part 117

[Docket No. USCG-2013-1044]

Drawbridge Operation Regulation; Elizabeth River, Eastern Branch, Norfolk, VA

AGENCY: Coast Guard, DHS.

ACTION: Notice of deviation from drawbridge regulation.

SUMMARY: The Coast Guard has issued a temporary deviation from the operating schedule that governs the draw of the Norfolk Southern #5 Railroad Bridge, across the Elizabeth River Eastern Branch, mile 1.1, at Norfolk, VA. This deviation is necessary to facilitate the replacement of 189 bridge ties and the reworking of the moveable rail joints on the Norfolk Southern #5 Railroad drawbridge. This temporary deviation allows the drawbridge to remain in the closed to navigation position.

DATES: This deviation is effective from 8 a.m. on March 4, 2014 to 2 p.m. April 3, 2014.

ADDRESSES: The docket for this deviation, [USCG-2013-1044] is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Mrs. Kashanda Booker, Bridge Administration Branch Fifth District, Coast Guard; telephone (757) 398-6227, email Kashanda.l.booker@uscg.mil. If you have questions on reviewing the docket, call Cheryl Collins, Program Manager, Docket Operations, 202-366-9826.

SUPPLEMENTARY INFORMATION: The Norfolk Southern Corporation, who owns and operates this drawbridge, has requested a temporary deviation from the current operating regulation set out in 33 CFR 117.5 to conduct the replacement of 189 bridge ties.

Under the regular operating schedule, the Norfolk Southern #5 Railroad Bridge, mile 1.1, in Norfolk, VA, the draw must open promptly and fully for the passage of vessels when a request or signal to open is given. The draw normally is open and only closes for train crossings or periodic maintenance. The Norfolk Southern #5 railroad Bridge, at mile 1.1, across the Elizabeth River (Eastern Branch) in Norfolk, VA, has a vertical clearance in the closed position to vessels of 6 feet above mean high water.

Under this temporary deviation, the drawbridge will be closed to navigation on the following schedule for the days specified:

March 4: 8 a.m. to 2 p.m.

March 5: 7 a.m. to 7 p.m.

March 6: 8 a.m. to 2 p.m.

March 10: 8 a.m. to 2 p.m.

March 11: 8 a.m. to 2 p.m.

March 12: 8 a.m. to 2 p.m.

March 13: 7 a.m. to 7 p.m.

April 2: 8 a.m. to 2 p.m.

April 3: 8 a.m. to 2 p.m.

At all other times the bridge will operate on its normal schedule. The bridge normally is maintained in the open-to-navigation position with several vessels transiting a week and only closes when trains transit across. Emergency openings cannot be provided. There are no alternate routes for vessels transiting this section of the Elizabeth River Eastern Branch but vessels may pass before 7 a.m. or 8 a.m. and after 2 p.m. or 7 p.m.

The Elizabeth River Eastern Branch is used by a variety of vessels including military, tug, commercial, and recreational vessels. The Coast Guard has carefully coordinated the restrictions with these waterway users. The Coast Guard will also inform additional waterway users through our Local and Broadcast Notices to Mariners of the closure periods for the bridge so that vessels can arrange their transits to minimize any impacts caused by the temporary deviation. Mariners able to pass under the bridge in the closed position may do so at any time and are advised to proceed with caution.

In accordance with 33 CFR 117.35(e), the drawbridge must return to its regular operating schedule immediately at the end of the designated time period. This deviation from the operating regulations is authorized under 33 CFR 117.35.

Dated: January 24, 2014.
Waverly W. Gregory, Jr.,
Bridge Program Manager, Fifth Coast Guard District.

[FR Doc. 2014-03097 Filed 2-11-14; 8:45 am]

BILLING CODE 9110-04-P